DEPARTMENT OF THE INTERIOR

Bureau of Land Management

[LLNV956000.L142000000.XH0000.241E0; 11-08807; MO# 4500022720; TAS: 14X1109]

Notice of Change of Hours of Operation and Closure of P.O. Box for the Nevada State Office

AGENCY: Bureau of Land Management, Interior.

ACTION: Notice

SUMMARY: The Bureau of Land Management (BLM) Nevada State Office, Information Access Center (IAC) will implement new hours of operation, weekdays, excluding Federal holidays, 8 a.m. to 4 p.m. The BLM Nevada State Office will close P.O. Box 12000 in Reno, Nevada. All postal service mail to the BLM Nevada State Office should be addressed to 1340 Financial Blvd., Reno, NV 89502.

DATES: Effective Date: The new hours of operation and the P.O. Box closure will be effective October 1, 2011.

FOR FURTHER INFORMATION CONTACT: Dilene A. Smith, Nevada State Office, 1340 Financial Blvd, Reno, NV 89502, telephone: (775) 861-6529, e-mail: dasmith@blm.gov. Persons who use a telecommunications device for the deaf (TDD) may call the Federal Information Relay Service (FIRS) at 1-800-877-8339 to contact the above individual during normal business hours. The FIRS is available 24 hours a day, 7 days a week, to leave a message or question with the above individual. You will receive a reply during normal hours.

SUPPLEMENTARY INFORMATION: The change in hours extends the hours the public may conduct business with the Information Access Center. The closure of the P.O. Box will result in all postal service mail to be delivered to the physical location of the Nevada State Office.

Robert M. Scruggs,
Deputy State Director, Support Services.

[FR Doc. 2011-20928 Filed 8-16-11; 8:45 am]

BILLING CODE 4310-HC-P